DEPARTMENT OF DEFENSE

Office of the Secretary

Proposed Collection; Comment Request

AGENCY: Department of Defense, Office of the Under Secretary of Defense, Acquisition, Technology, and Logistics/Defense Technical Information Center (DTIC).

ACTION: Notice.

In compliance with Section 3506(C)(2)(A) of the Paperwork Reduction Act of 1995, the Office of the Under Secretary of Defense, Acquisition, Technology, and Logistics/Defense Technical Information Center (DTIC), announces the proposed extension of a currently approved collection and seeks public comment on the provisions thereof. Comments are invited on:

(a) Whether the proposed collection of information is necessary for the proper performance of the functions of the agency, including whether the information shall have practical utility.

(b) The accuracy of the agency's estimate of the burden of the proposed information collection.

(c) Ways to enhance the quality, utility, and clarity of the information to be collected.

(d) Ways to minimize the burden of the information collection on respondents, including through the use of automated collection techniques or other forms of information technology.

DATES: Consideration will be given to all comments received by: August 31, 2004.

ADDRESSES: Interested parties should submit written comments and recommendations on the proposed information to DTIC-BC Registration Team, Defense Technical Information Center, 8725 John J. Kingman Road, Suite 0944, Fort Belvoir, VA 22060-6218 E-mail comments, submitted via the Internet should be addressed to: wbush@dtic.mil at: (703) 767-8213.

FOR FURTHER INFORMATION CONTACT: To request further information about this proposed information collection, or to obtain a copy of the proposal and the associated collection instrument, please write to the above address, or call Mr. William Bush at: (703) 767-8213.

Title, Associated Form, and OMB Number: Registration for Scientific and Technical Information Services, DD Form 1540, OMB Control Number: 07040264.

Needs and Uses: The data that the Defense Technical Information Center handles is controlled, either because of distribution limitations, or security classification. For this reason, all potential users are required to register for service. DOD Instruction 3200.14, Principles and Operational Parameters of the DOD Scientific and Technical Information Program, mandates the registration procedure. Federal Government agencies and their contractors are required to complete the DD Form 1540, Registration for Scientific and Technical Information Services OMB Number: 07040264. The contractor community completes a separate DD Form 1540 for each contract or grant, and registration is valid until the contract expires.

Affected Public: Businesses or other for-profit, small Businesses or organizations, non-profit institutions.

Annual Burden Hours: 833.

Number of Annual Respondents: 2,000.

Annual Responses to Respondent: 1.

Average Burden Per Response: 25 Minutes.

Frequency: On occasion.

SUPPLEMENTARY INFORMATION:

Summary of Information Collection

The DOD Scientific and Technical Information Program (STIP) requires the exchange of scientific and technical information within and among federal Government agencies and their contractors. The DD Form 1540 serves as a registration tool for Federal Government Agencies and their contractors to access DTIC services. The Contractors, Subcontractors, and Potential Contractors are required to obtain certification from designated approving officials. Federal Government Agencies need certification from Approving Officials and Security Officers when requesting access to classified and/or data. Collected information is verified by DTIC's Marketing and Registration Division.

Dated: June 30, 2004.
L.M. Bynum,
Alternate OSD Federal Register Liaison Officer, Department of Defense.

[FR Doc. 04-15433 Filed 7-7-04; 8:45 am]

BILLING CODE 5001-06-M